ENVIRONMENTAL PROTECTION AGENCY

[FRL-7268-3]

Final Notification of Alternative Tier 2 Requirements for PuriNOX Diesel Fuel

AGENCY: Environmental Protection Agency (EPA).

ACTION: Notice.

SUMMARY: The purpose of this notice is to announce that the EPA has notified the Lubrizol Corporation (Lubrizol), manufacturer of a motor-vehicle diesel fuel known as PuriNOX, of Alternative Tier 2 health-effects testing requirements for PuriNOX Generation 2 Winter Diesel Fuel Emulsion (Winter PuriNOX) under the fuel and fuel additive registration testing requirements. EPA has also concluded that testing performed by Lubrizol on Winter PuriNOX and a warm-climate PuriNOX will be sufficient to cover intermediate versions of PuriNOX.

DATES: The Alternative Tier 2 testing requirements for Winter PuriNOX are effective upon receipt by Lubrizol of the notification letter discussed in this notice.

ADDRESSES: A copy of the notification to Lubrizol has been placed in Public Docket No. A-2002-07, Waterside Mall (Room M-1500), Environmental Protection Agency, Air Docket Section, 401 M Street, SW., Washington, DC 20460-0001. Relevant materials have been placed in this docket. It may be inspected from 8:00 a.m. to 5:30 p.m., Monday through Friday. A reasonable fee may be charged for copying.

FOR FURTHER INFORMATION CONTACT: James W. Caldwell, Environmental Engineer, U.S. Environmental Protection Agency, Office of Transportation and Air Quality, Mail Code 6406J, 1200 Pennsylvania Avenue, NW, Washington, DC 20460-0001, (202) 564-9303, fax (202) 565-2085, caldwell.jim@epa.gov.

SUPPLEMENTARY INFORMATION: Regulated Entity. The entity regulated by this action is Lubrizol.

I. Introduction

Pursuant to sections 211(b)(2) and 211(e) of the Clean Air Act (CAA) EPA promulgated regulations requiring manufacturers of designated fuels and fuel additives (F/FA) to conduct tests to determine the potential health effects of the F/FA emissions. The final rule, promulgated May 27, 1994, established new health-effects testing requirements for the registration of designated F/FAs (59 FR 33042).

The registration requirements are organized within a three-tier structure. Tier 1 requires F/FA manufacturers to supply to EPA (1) the identity and concentration of certain emission products, and (2) any available information regarding the health and welfare effects of the whole and speciated emissions. 40 CFR 79.52. Tier 2 requires that combustion emissions of each F/FA subject to the testing requirements be tested for subchronic systemic and organic toxicity, as well as the assessment of specific health-effect endpoints. 40 CFR 79.53. Tier 3 testing may be required, at EPA's discretion, when remaining uncertainties as to the significance of observed health or welfare effects, or emissions exposures, interfere with EPA's ability to reasonably assess the potential risks posed by the emissions from a F/FA. 40 CFR 79.54. EPA's regulations permit submission of adequate existing test data in lieu of conducting new, duplicative tests. 40 CFR 79.53(b).

At its discretion, EPA may modify the standard Tier 2 health-effects testing requirements for a F/FA (or group thereof) by substituting, adding, or deleting testing requirements, or changing the underlying vehicle/engine specifications. 40 CFR 79.58(c). EPA will not, however, delete a testing requirement for a specific end point in the absence of existing adequate information, or an alternative testing requirement for that endpoint. 40 CFR 79.58(c).

II. Proposed Alternative Tier 2 Requirements for PuriNOX

On May 3, 2002 EPA notified Lubrizol of proposed Alternative Tier 2 testing requirements under 40 CFR 79.58(c) for Lubrizol's Winter PuriNOX formulation. The proposed Alternative Tier 2 testing requirements were identical to the standard Tier 2 requirements with the exception that the test fuel would be the Winter PuriNOX formulation, consisting of 74% diesel fuel, 16.8% water, 5.7% methanol, and 3.5% PuriNOX Generation 2 Additive Package. Under the standard Tier 2 requirements the water and methanol would have been tested separately in diesel fuel. EPA believed that, since such separate formulations would never occur in the production of Winter PuriNOX, testing of the proposed test fuel, which corresponds with its commercial composition, would produce more meaningful health-effects testing results.

Lubrizol has already conducted standard Tier 2 testing on a warm-climate PuriNOX formulation, consisting of 77% diesel fuel, 20% water, and 3% PuriNOX 1121A Additive Package. EPA also proposed that this testing, in conjunction with the Alternative Tier 2 testing for Winter PuriNOX, would be sufficient to meet the Tier 2 requirements for intermediate PuriNOX combinations of diesel fuel, water, methanol, and additive package.¹ An associated Federal Register notice (67 FR 35808, May 21, 2002) initiated a 30-day public comment period. Only one comment was received, and it did not address either proposal. The EPA has concluded that both proposals will be finalized without change, and has notified Lubrizol by letter. A copy of the letter has been placed in the docket referenced above.

¹ Thus, if the Winter PuriNOX Alternative Tier 2 testing is successfully completed, the Tier 2 health effects testing requirements would be met for PuriNOX formulations consisting of 100%-74% diesel fuel, 0%-20%water, 0%-5.7% methanol, 0%-3.5% PuriNOX Generation 2 Additive, or 0%-3% PuriNOX 1121A.

III. Environmental Impact

This action will result in no immediate environmental impact, but may provide a basis for further regulatory action, should the collected data indicate that there may be a risk to public health or welfare.

IV. Economic Impact

This action will reduce the testing expense for Lubrizol by reducing the number of test fuels. Since this applies only to Lubrizol, which is not a small entity, there is no economic impact on small entities.

List of Subjects in 40 CFR Part 79

Environmental protection, Air pollution control, Diesel fuel, and Motor vehicle pollution.

Dated: August 19, 2002.
Robert Brenner,
Acting Assistant Administrator, Office of Air and Radiation.

[FR Doc. 02-21675 Filed 8-23-02; 8:45 am]

BILLING CODE 6560-50-P